DEPARTMENT OF ENERGY

[Solicitation Number DE-PS36-03GO93016]

Hydrogen Education Development

AGENCY: Golden Field Office, U.S. Department of Energy (DOE).

ACTION: Notice of issuance of solicitation for financial assistance applications.

SUMMARY: The Hydrogen, Fuel Cells, and Infrastructure Technologies Program of the Department of Energy (DOE) Office of Energy Efficiency and Renewable Energy is soliciting financial assistance Applications with the objective of contributing to industry efforts and the President's Hydrogen Fuel Initiative in developing a path to a hydrogen economy. DOE intends to provide financial support for this effort under authority of the Department of Energy Organization Act, Pub. L. 95-91. DOE is soliciting Applications for hydrogen education development activities.

DATES: The Solicitation was issued on September 13, 2003 with a closing date on December 4, 2003.

ADDRESSES: To obtain a copy of the Solicitation, interested parties should access the DOE Industry Interactive Procurement System (IIPS) Web site. The Solicitation can be obtained directly through IIPS at http://e-center.doe.gov by Browsing Opportunities by Program Office, (Enter IIPS), Financial Assistance, Golden Field Office, and then selecting this Solicitation number. DOE will not issue paper copies of the Solicitation.

FOR FURTHER INFORMATION CONTACT: James Damm, Contracting Officer, via facsimile to (303) 275-4788 or electronically to james.damm@go.doe.gov. Solicitation questions must be submitted through IIPS per the instructions contained in the Solicitation. Responses to questions will be posted on the IIPS Web site. Further information on DOE's Hydrogen, Fuel Cells, and Infrastructure Technologies Program can be viewed at http://www.eere.energy.gov/hydrogenandfuelcells.

SUPPLEMENTARY INFORMATION: Under this Solicitation, DOE seeks Applications for four specific activities intended to educate key target audiences, including teachers, students, and the public about the use of hydrogen as an energy carrier and the future path to a hydrogen economy.

Awards under this Solicitation will be Grants or Cooperative Agreements with terms of one to five years beginning in Fiscal Year 2004. Subject to the availability of annual congressional appropriations, the total cumulative DOE funding available under this Solicitation for all projects is anticipated to be between $1 million and $3.5 million over the five-year period. The minimum required cost share varies by specific activity and will be specified in the Solicitation.

Issued in Golden, Colorado.
Jerry L. Zimmer,
Director, Office of Acquisition and Financial Assistance.

[FR Doc. 03-24349 Filed 9-25-03; 8:45 am]

BILLING CODE 6450-01-P